DEPARTMENT OF COMMERCE

International Trade Administration

Argonne National Laboratory; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5:00 p.m. in Room 4211, U.S. Department of Commerce, 14th and Constitution Avenue, NW., Washington, DC.

Docket Number: 00-042. Applicant: Argonne National Laboratory, Argonne, IL 60439-4874. Instrument: Track Mounted Cone Penetrometer Vehicle and Associated Equipment, Model COSON 200. Manufacturer: A. P. Van Den Berg, Inc., The Netherlands. Intended Use: See notice at 66 FR 7626, January 24, 2001.

Comments: None received. Decision: Approved. No instrument of equivalent scientific value to the foreign instrument, for such purposes as it is intended to be used, is being manufactured in the United States. Reasons: The foreign instrument is a track mounted vehicle capable of driving probes with electronically and seismically sensitive cones into the soil over large areas for geotechnical surveys. The U.S. Department of Agriculture advised March 20, 2001 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Program Staff.

[FR Doc. 01-9636 Filed 4-17-01; 8:45 am]

BILLING CODE 3510-DS-M